DEPARTMENT OF THE TREASURY

Proposed Privacy Act Systems of Records

AGENCY: Departmental Offices, Treasury.

ACTION: Notice of proposed Privacy Act systems of records.

SUMMARY: In accordance with the requirements of the Privacy Act of 1974, as amended, the Department of the Treasury, Departmental Offices gives notice of a proposed system of records entitled, “Treasury/DO .225 —TARP Fraud Investigation Information System.”

DATES: Comments must be received no later than March 11, 2011. The proposed new system of records will be effective March 11, 2011 unless comments are received which would result in a contrary determination.

ADDRESSES: Written comments should be sent to the Department of the Treasury, ATTN: Supervisory Fraud Specialist, Office of Financial Stability, 1500 Pennsylvania Avenue, NW., Washington, DC 20220. The Department will make such comments available for public inspection and copying in the Department's Library, Room 1428, Main Treasury Building, 1500 Pennsylvania Avenue, NW., Washington, DC 20220, on official business days between the hours of 10 a.m. and 5 p.m. Eastern Daylight Time. You can make an appointment to inspect comments by telephoning (202) 622-0990. All comments received, including attachments and other supporting materials, are part of the public record and subject to public disclosure. You should submit only information that you wish to make available publicly.

FOR FURTHER INFORMATION CONTACT: Brian Bressman, Department of the Treasury, 1500 Pennsylvania Avenue, NW., Washington, DC 20220, at (202) 927-9219 (fax) or via electronic mail at Brian.Bressman@do.treas.gov.

SUPPLEMENTARY INFORMATION: The Department established the Office of Financial Stability (OFS) to manage the Troubled Asset Relief Program (TARP). TARP was established under the Emergency Economic Stabilization Act of 2008 (EESA) with the specific goal of stabilizing the United States financial system and preventing a systemic collapse. Treasury established a series of initiatives under the TARP that include the Making Home Affordable Program, Hardest Hit Fund, Capital Purchase Program, American International Group (AIG) Program, Consumer and Business Lending Initiative, Public-Private Investment Program, Capital Assistance Program, Asset Guarantee Program, Targeted Investment Program, and the Automotive Industry Financing Program. These programs aim to stabilize the financial system, restore the flow of credit to consumers and businesses, and mitigate the effects of the foreclosure crisis to keep millions of Americans in their homes. OFS is establishing the TARP Fraud Investigation Information System to assist the Department in carrying out its responsibilities under EESA. The TARP Fraud Investigation Information System maintains information relevant to background inquiries conducted on individuals that seek, receive or are entrusted with the TARP funds, and to complaints received and collected as part of investigations pertaining to alleged fraud, waste, and/or abuse committed against the TARP programs. Information in the system will assist investigators in determining whether to: (a) Refer matters to the Office of the Special Inspector General for the Troubled Asset Relief Program (SIGTARP) for further investigation and resolution; (b) refer matters to OFS Financial Agents and others for compliance review; or (c) close matters with no further action to be taken. The OFS Fraud Investigation Information System is important to the success of the OFS mission.

In a notice of proposed rulemaking, which is published separately in the Federal Register, the Office of Financial Stability is proposing to exempt records maintained in several systems from certain of the Privacy Act's requirements pursuant to 5 U.S.C. 552a(k)(2).

The report of a new system of records, as required by 5 U.S.C. 552a(r) of the Privacy Act, has been provided to the Committee on Oversight and Government Reform of the House of Representatives, the Committee on Homeland Security and Governmental Affairs of the Senate, and the Office of Management and Budget.

The proposed new system of records, entitled “Treasury/DO .225—TARP Fraud Investigation Information System” is published in its entirety below.

Dated: January 25, 2011.
Melissa Hartman,
Deputy Assistant Secretary for Privacy, Transparency and Records.

Treasury/DO .225

SYSTEM NAME:

TARP Fraud Investigation Information System.

SYSTEM LOCATION:

Office of Financial Stability, Department of the Treasury, 1500 Pennsylvania Avenue, NW., Washington, DC 20220.

CATEGORIES OF INDIVIDUALS COVERED BY THE SYSTEM:

The TARP Fraud Investigation Information System contains information about:

(a) Individuals that seek, receive or are entrusted with TARP funds;

(b) Individuals that are:

1. Known perpetrators or suspected perpetrators of a known or possible fraud committed or attempted against TARP programs;

2. Directors, officers, partners, proprietors, employees, and agents, of a business entity;

3. Named as possible witnesses;

4. Actual or potential victims of fraud, including but not limited to mortgage fraud; and

5. Individuals or entities who have applied to any of the TARP programs, recipients of TARP program funds and/or benefits, OFS contractors, OFS agents; or

6. Individuals or entities who have or might have information about reported matters.

CATEGORIES OF RECORDS IN THE SYSTEM:

This system of records contains information on individuals or entities who seek, receive or are entrusted with TARP funds, are the subject of an investigation or in connection with an investigation, undertaken by OFS into allegations of actual or suspected TARP program fraud, waste, and/or abuse. Typically, these records include, but are not limited to, the individual's name, date of birth, social security number, telephone number(s), residential address(es), e-mail or web address(es), driver's license number, vehicle ownership records, prior criminal history, and other exhibits and documents collected during an investigation.

AUTHORITY FOR MAINTENANCE OF THE SYSTEM:

12 U.S.C. 5211 and 18 U.S.C. 1031.

PURPOSE(S):

The purpose of this system of records is to maintain a database of investigative materials consisting of complaints, inquiries, and investigative referrals pertaining to alleged fraud, waste, and/or abuse committed or alleged to have been committed by third parties against the TARP programs, and of background inquiries conducted on individuals seeking, receiving or entrusted with TARP funds. Information in the system will allow investigators to determine whether to refer matters to the appropriate authority for further investigation and possible criminal, civil, or administrative action.

ROUTINE USES OF RECORDS MAINTAINED IN THE SYSTEM, INCLUDING CATEGORIES OF USERS AND THE PURPOSES OF SUCH USES:

These records may be used:

1. To disclose pertinent information to appropriate Federal, foreign, State, local, Tribal or other public authorities or self-regulatory organizations responsible for investigating or prosecuting the violations of, or for enforcing or implementing, a statute, rule, regulation, order, or license, where the disclosing agency becomes aware of an indication of a potential violation of civil or criminal law or regulation.

2. Provide information to a Congressional office in response to an inquiry made at the request of the individual to whom the record pertains.

3. Disclose information to a court, or a party in litigation before a court or in an administrative proceeding being conducted by a Federal agency, when the Federal Government is a party to the judicial or administrative proceeding. In those cases where the Federal Government is not a party to the proceeding, records may be disclosed if a subpoena has been signed by a court of competent jurisdiction and agency “Touhy” regulations are followed. See 31 CFR 1.8 et seq.

4. To disclose information to the National Archives and Records Administration (NARA) for use in its records management inspections and its role as an Archivist.

5. To disclose information to the United States Department of Justice (DOJ), for the purpose of representing or providing legal advice to the Department of the Treasury (Department) in a proceeding before a court, adjudicative body, or other administrative body before which the Department is authorized to appear, when such proceeding involves:

(a) The Department or any component thereof;

(b) Any employee of the Department in his or her official capacity;

(c) Any employee of the Department in his or her individual capacity where the DOJ or the Department has agreed to represent the employee; or

(d) The United States, when the Department determines that litigation is likely to affect the Department or any of its components; and the use of such records by the DOJ is deemed by the DOJ or the Department to be relevant and necessary to the litigation provided that the disclosure is compatible with the purpose for which records were collected.

6. To contractors and their agents, grantees, experts, consultants, and others performing or working on a contract, service, grant, cooperative agreement, or other assignment for the Department, when necessary to accomplish an agency function related to this system of records. Individuals provided information under this routine use are subject to the same Privacy Act requirements and limitations on disclosure as are applicable to Department officers and employees.

7. To appropriate agencies, entities, and persons when: (a) The Department suspects or has confirmed that the security or confidentiality of information in the system of records has been compromised; (b) the Department has determined that as a result of the suspected or confirmed compromise that there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

8. To disclose information to the appropriate Federal, foreign, State, local, Tribal, or other public authority or self regulatory organization for the purpose of consulting as to the propriety of access to or amendment or correction of information obtained from that authority or organization, or verifying the identity of an individual who has requested access to or amendment or correction of records.

POLICIES AND PRACTICES FOR STORING, RETRIEVING, SAFEGUARDING, RETAINING AND DISPOSING OF RECORDS IN THE SYSTEM:

STORAGE:

These records are maintained in both an electronic media and paper records.

RETRIEVABILITY:

These records may be retrieved by various combinations of employer name and or individual name.

SAFEGUARDS:

Where feasible, data in electronic format is encrypted or password protected. Access to data and records is limited to only those employees within the Office of Financial Stability whose duties require access. Physical records are kept securely locked at a controlled, limited-access facility. Personnel screening and training are employed to prevent unauthorized disclosure.

RETENTION AND DISPOSAL:

The records will be maintained indefinitely until a record disposition schedule submitted to the National Archives Records Administration has been approved.

SYSTEM MANAGER(S) AND ADDRESS:

Supervisory Fraud Specialist, Office of Financial Stability, U.S. Department of the Treasury, 1500 Pennsylvania Avenue, NW., Washington, DC 20220.

NOTIFICATION PROCEDURE:

Individuals seeking notification and access to any record contained in this system of records, or seeking to contest its content, may inquire in writing in accordance with instructions appearing at 31 CFR part 1, subpart C, appendix A. Address inquiries to: Director, Disclosure Services, Department of the Treasury, 1500 Pennsylvania Avenue, NW., Washington, DC 20220. This system of records may contain records that are exempt from the notification, access, and contesting records requirements pursuant to the provisions of 5 U.S.C. 552a(k)(2).

RECORD ACCESS PROCEDURE:

See “Notification Procedure” above.

CONTESTING RECORD PROCEDURE:

See “Notification Procedure” above.

RECORD SOURCE CATEGORIES:

Information contained in this system is obtained from mortgage servicers, other government agencies or self regulatory organizations, Treasury's financial agents, commercial databases, and/or witnesses or other third parties having information relevant to an investigation. Some records contained within this system of records are exempt from the requirement that the record source categories be disclosed pursuant to the provisions of 5 U.S.C. 552a(k)(2).

EXEMPTIONS CLAIMED FOR THE SYSTEM:

Some records contained within this system of records are exempt from 5 U.S.C. 552a(c)(3), (d)(1), (d)(2), (d)(3), (d)(4), (e)(1), (e)(4)(G), (e)(4)(H), (I) and (f) of the Privacy Act pursuant to 5 U.S.C. 552a(k)(2).

[FR Doc. 2011-2871 Filed 2-8-11; 8:45 am]

BILLING CODE 4810-25-P